DEPARTMENT OF DEFENSE

Department of the Navy

Notice of Intent To Grant Exclusive Patent License; Ekips Technologies, Inc.

AGENCY: Department of the Navy, DoD.

ACTION: Notice.

SUMMARY: The Department of the Navy hereby gives notice of its intent to grant to Ekips Technologies, Inc., a revocable, nonassignable, exclusive license to practice in the field of use in electro-optical devices in the United States and certain foreign countries, the Government-owned invention described in U.S. Patent No. 6,593,212: METHOD FOR MAKING ELECTRO-OPTICAL DEVICES USING A HYDROGEN ION SPLITTING TECHNIQUE, Navy Case No. 79,639 and any continuations, divisionals or re-issues thereof.

DATES: Anyone wishing to object to the grant of this License must file written objections along with supporting evidence, if any, not later than December 26, 2006.

ADDRESSES: Written objections are to be filed with the Naval Research Laboratory, Code 1004, 4555 Overlook Avenue, SW, Washington, DC 20375-5320.

FOR FURTHER INFORMATION CONTACT: Rita Manak, Head, Technology Transfer Office, NRL Code 1004, 4555 Overlook Avenue, SW, Washington, DC 20375-5320, telephone 202-767-3083. Due to U.S. Postal delays, please fax 202-404-7920, e-mail: rita.manak@nrl.navy.mil or use courier delivery to expedite response.

Authority: 35 U.S.C. 207, 37 CFR part 404.

Dated: December 4, 2006.
M.A. Harvison,
Lieutenant Commander, Judge Advocate General's Corps, U.S. Navy, Federal Register Liaison Officer.

[FR Doc. E6-20960 Filed 12-8-06; 8:45 am]

BILLING CODE 3810-FF-P